DEPARTMENT OF DEFENSE

Office of the Secretary

[Transmittal No. 19-38]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 19-38 with attached Policy Justification and Sensitivity of Technology.

Dated: December 16, 2019.
Aaron T. Siegel,
Alternate OSD Federal Register Liaison Officer, Department of Defense.

BILLING CODE 5001-06-P

BILLING CODE 5001-06-C

Transmittal No. 19-38

Notice of Proposed Issuance of Letter of Offer Pursuant to Section 36(b)(1) of the Arms Export Control Act, as amended

(i) Prospective Purchaser: Kingdom of Morocco

(ii) Total Estimated Value:

Major Defense Equipment * | $187 million
Other | $ 22 million
TOTAL | $209 million

(iii) Description and Quantity or Quantities of Articles or Services under Consideration for Purchase:

Major Defense Equipment (MDE):

Five thousand eight hundred and ten (5,810) MK82-1 Bomb (Tritonal)

Three hundred (300) MK84-4 Bomb (Tritonal)

One hundred and five (105) Joint Direct Attack Munitions (JDAM) KMU-572F/B Tail Kits

One hundred eighty (180) MXU-651B/B Air Foil Group (AFG), GBU-10

Four thousand one hundred twenty five (4,125) MXU-650C/B AFG, GBU-12

Four thousand three hundred and five (4,305) MAU-169L/B Computer Control Group (CCG), GBU-10,-12,-16

Five thousand one hundred seventy-eight (5,178) FMU-152 Fuze

Non-MDE:

Also included are flares M-206, Flares MJU-7A/B, Impulse Cartridges BBU-36, Impulse Cartridges BBU-35/B, Bomb Sensor DSU-33C/B, chaff, bomb components, spares, repair parts, support equipment, publications and technical documentation, engineering technical and support services, and other related elements of logistics, transportation, and program support.

(iv) Military Department: Air Force (MO-D-AAG and MO-D-AAE)

(v) Prior Related Cases, if any: MO-D-SAY

(vi) Sales Commission, Fee, etc., Paid, Offered, or Agreed to be Paid: None

(vii) Sensitivity of Technology Contained in the Defense Article or Defense Services Proposed to be Sold: See Attached Annex.

(viii) Date Report Delivered to Congress: September 11, 2019

* As defined in Section 47(6) of the Arms Export Control Act.

POLICY JUSTIFICATION

Morocco—Additional F-16 Ammunition

The Government of Morocco has requested a possible sale of five thousand eight hundred and ten (5,810) MK82-1 Bombs (Tritonal); three hundred (300) MK84-4 Bombs (Tritonal); one hundred and five (105) Joint Direct Attack Munitions (JDAM) KMU-572F/B Tail Kits; one hundred eighty (180) MXU-651B/B Air Foil Groups (AFG), GBU-10; four thousand one hundred twenty five (4,125) MXU-650C/B AFGs, GBU-12; four thousand three hundred and five (4,305) MAU-169L/B Computer Control Groups (CCG), GBU-10,-12,-16; and five thousand one hundred seventy-eight (5,178) FMU-152 Fuzes. Also included are flares M-206, Flares MJU-7A/B, Impulse Cartridges BBU-36, Impulse Cartridges BBU-35/B, Bomb Sensor DSU-33C/B, chaff, bomb components, spares, repair parts, support equipment, publications and technical documentation, engineering technical and support services, and other related elements of logistics, transportation, and program support. The estimated cost is $209 million.

This proposed sale will support the foreign policy and national security of the United States by helping to improve the security of a major Non-NATO ally that continues to be an important force for political stability and economic progress in Africa.

The proposed sale will improve Morocco's capability to meet current and future threats of terror from violent extremist organizations prevalent throughout the region. Additionally, the additional munitions provided by this sale will improve interoperability with the United States and other regional allies and enhance Morocco's ability to undertake coalition operations, as it has done in the past in flying sorties against ISIS in Syria and Iraq. Morocco will have no difficulty absorbing these additional munitions and services into its armed forces.

The proposed sale of this equipment will not alter the basic military balance in the region.

The principal contractors will be Raytheon USA, Orbital ATK (USA), General Dynamics, Kilgore Cheming Groupe (USA), Cheming Groupe (USA), and Kaman Precision Products (USA). The purchaser typically requests offsets, however there are no known offset agreements at this time in connection with this potential sale.

Implementation of this proposed sale will not require U.S. Government or contractor representatives to be assigned to Morocco.

There will be no adverse impact on U.S. defense readiness as a result of this proposed sale.

Transmittal No. 19-38

Notice of Proposed Issuance of Letter of Offer Pursuant to Section 36(b)(1) of the Arms Export Control Act

Annex

Item No. vii

(vii) Sensitivity of Technology:

1. Sensitive and/or classified (up to SECRET) elements of the proposed sale include munitions and support equipment: MK82-1 Bomb (Tritonal), MAU-169L/B, MXU-651B/B, MXU-650C/B, Fuzes FMU-152A/B, and JDAM MK-84 KMU-572 F/B. The hardware, software, and data identified are classified to protect vulnerabilities, design and performance parameters, and other similar critical information.

2. GBU-10/12/16/58 Paveway II (PWII), a Laser Guided Bomb (LGB), is a maneuverable, free-fall weapon that guides to a spot of laser energy reflected off the target. The LGB is delivered like a normal general purpose (GP) warhead, and the semi-active guidance corrects for many of the normal errors inherent in any delivery system. Laser designation for the LGB consists of a Computer Control Group (CCG) that is not warhead specific, and a warhead specific Air Foil Group (AFG) that attaches to the nose and tail of a GP bomb body. The PWII can use either the FMU-152 or FMU-139D/B fuzes. The overall weapon is CONFIDENTIAL. The GBU-10 is a 2,000 lb (MK-84 or BLU-117 B/B) GP bomb body fitted with the MXU-650 AFG, and MAU-209C/B or MAU-168L/B CCGs to guide to its laser designated target. MK-82 bomb body's hardware are UNCLASSIFIED.

3. Joint Direct Attack Munitions (JDAM) is a Joint Service weapon which uses an onboard GPS-aided Inertial Navigation System (INS) Guidance Set with a MK82, MK83, MK84, BLU-109, BLU-100, BLU-111, BLU-117, BLU-126 (Navy) or BLU-129 warhead. The Guidance Set, when combined with a warhead and appropriate fuze, forms a JDAM Guided Bomb Unit (GBU). The JDAM Guidance Set gives these bombs adverse weather capability with improved accuracy. The JDAM weapon can be delivered from modest standoff ranges at high or low altitudes against a variety of land and surface targets during the day or night. After release, JDAM autonomously guides to a target using the resident GPS-aided INS guidance system. JDAM is capable of receiving target coordinates via preplanned mission data from the delivery aircraft, by onboard aircraft sensors (i.e. FLIR, Radar, etc.) during captive carry, or from a third party source via manual or automated aircrew cockpit entry. The JDAM as an All Up Round is UNCLASSIFIED; technical data for JDAM is classified up to SECRET.

4. Joint Programmable Fuze (JPF) FMU-152 is a multi-delay, multi-arm and proximity sensor compatible with general purpose blast, frag and hardened-target penetrator weapons. The JPF settings are cockpit selectable in flight when used with JDAM weapons.

5. If a technologically advanced adversary were to obtain knowledge of the specific hardware and software elements, the information could be used to develop countermeasures that might reduce weapon system effectiveness or be used in the development of a system with similar or advanced capabilities.

6. A determination has been made that Morocco can provide substantially the same degree of protection for the sensitive technology being released as the U.S. Government. This sale is necessary in furtherance of the U.S. foreign policy and national security objectives outlined in the Policy Justification.

7. All defense articles and services listed in this transmittal are authorized for release and export to the Government of Morocco.

[FR Doc. 2019-27480 Filed 12-19-19; 8:45 am]

BILLING CODE 5001-06-P